DEPARTMENT OF THE INTERIOR

Fish and Wildlife Service

Ohio Department of Natural Resources Candidate Conservation Agreement With Assurances and Enhancement of Survival Permit Application for the Eastern Massasauga Rattlesnake

AGENCY: Fish and Wildlife Service, Interior.

ACTION: Notice of availability.

SUMMARY: The Fish and Wildlife Service (Service) has received an application from the Ohio Department of Natural Resources (Applicant) for an enhancement of survival permit (ESP) pursuant to section 10(a)(1)(A) of the Endangered Species Act of 1973 (U.S.C. 1531 et seq.), as amended (Act). The Applicant proposes to implement conservation measures for the Eastern Massasauga rattlesnake (Sistrurus sistrurus catenatus) by removing the threats to the survival and protecting and managing its habitat within the Rome State Nature Preserve. The Service announces receipt of the ESP application as well as the availability of a proposed Candidate Conservation Agreement with Assurances (CCAA) intended to facilitate the implementation of conservation measures for the species by the Applicant. Compliance under the National Environmental Policy Act (NEPA) for the proposed action was addressed in an Environmental Assessment (EA) approved July 26, 2005. A copy of the final EA and Finding of No Significant Impact (FONSI) is available at: http://www.fws.gov/midwest/NEPA.

DATES: Written data or comments must be received on or before October 20, 2005.

ADDRESSES: 1. Regional Director, U.S. Fish and Wildlife Service, Ecological Services, 1 Federal Drive, Fort Snelling, Minnesota 55111-4056.

2. U.S. Fish and Wildlife Service, Ecological Services Field Office, 6950 Americana Pkwy, Suite H, Reynoldsburg, Ohio 43068-4127.

FOR FURTHER INFORMATION CONTACT: Mr. Peter Fasbender, (612) 713-5343, or peter_fasbender@fws.gov.; or Ms. Angela Zimmerman, telephone: (614) 469-6923.

SUPPLEMENTARY INFORMATION:

Availability of Documents

We provide this notice pursuant to section 10(c) of the Act and pursuant to implementing regulations for the National Environmental Policy Act (NEPA) found at (40 CFR 1506.6). All comments received on the permit application and proposed Agreement, including names and addresses, will become part of the administrative record and may be released to the public. If you wish us to withhold your name and/or address, you must state this prominently at the beginning of your comment. All submissions from organizations or companies, or from individuals representing organizations or companies, are available for public inspection in their entirety.

Background

The eastern massasauga rattlesnake, also known as the swamp rattler or black snapper, is a resident of many glaciated areas of Ohio. The massasauga was once common throughout much of the Great Lakes basin, but now is restricted to scattered, often isolated populations. Extensive farming, draining of their wetland habitats, vegetation succession and other forms of habitat fragmentation has contributed to their reduced numbers. Loss of habitat and persecution by humans are thought to be the primary causes of decline. Current records from the Heritage Database (Division of Natural Areas and Preserves) place the snake in only 15 Ohio counties. At least eight of these populations occur on state-owned and/or managed land. The Division of Natural Areas and Preserves (the Division) manages three sites, the Division of Wildlife manages four sites and the Ohio Historical Society manages another. The massasauga was listed as an endangered species in Ohio in 1996. In October 1999, the Service designated it a candidate species for Federal protection by the Endangered Species Act.

The Rome State Nature Preserve is located within Ashtabula County, Ohio. Containing approximately 105 acres, the preserve is located between Rome and Hartsgrove Townships and lies within the Grand River watershed. Under the CCAA, the Applicant has agreed to implement several conservation measures that will reduce and/or eliminate potential threats to the species. The Applicant will: (1) Maintain and manage the Rome State Nature Preserve in a mosaic of habitats essential for the massasauga; (2) control the spread of invasive vegetation species; and (3) implement protective measures to reduce losses from human and natural predators.

Implementation of the CCAA is expected to protect and conserve habitat for the covered species, eliminate unauthorized human disturbances within Rome State Nature Preserve that are believed to impact the covered species, and provide important monitoring data that can be used to develop and/or improve management strategies for the massasauga. These benefits will be obtained through restoration and protection of habitats on the enrolled property.

We will make our final determination after the end of the 30-day comment period and will fully consider all comments received. If the final analysis shows the CCAA to be consistent with our policies and applicable regulations, we will sign the CCAA and issue the ESP. The proposed ESP would, in compliance with the CCAA policy, only become valid on such date as the eastern massasauga rattlesnake is listed as a threatened or endangered species under the Act.

Written data or comments concerning the CCAA or ESP application should be submitted to the Regional Director. (see ADDRESSES section). Further, persons wishing to review the CCAA and ESP application may obtain copies by writing to the same address or they can be viewed on the Service's Regional Web site at: http://www.fws.gov/midwest/NEPA. Comments must be submitted in writing to be adequately considered in the Service's decision-making process. Please reference permit number TE-101451 in your comments, or in requests of the documents discussed herein. Documents will also be available for public inspection by appointment during normal business hours at the Reynoldsburg, Ohio, Ecological Services Field Office (see ADDRESSES section).

Dated: August 29, 2005.
Wendi Weber,
Assistant Regional Director, Ecological Services, Region 3, Fort Snelling, Minnesota.

[FR Doc. 05-18683 Filed 9-19-05; 8:45 am]

BILLING CODE 4310-55-P